OFFICE OF THE UNITED STATES TRADE REPRESENTATIVE

[Dispute No. WT/DS444]

WTO Dispute Settlement Proceeding Regarding Argentina—Measures Affecting the Importation of Goods

AGENCY: Office of the United States Trade Representative.

ACTION: Notice; request for comments.

SUMMARY: The Office of the United States Trade Representative (“USTR”) is providing notice that on August 21, 2012, the United States requested consultations with the Government of Argentina (“Argentina”) under the Marrakesh Agreement Establishing the World Trade Organization (“WTO Agreement”) concerning certain measures imposed by Argentina on the importation of goods. That request may be found at www.wto.org, contained in a document designated as WT/DS444/1. USTR invites written comments from the public concerning the issues raised in this dispute.

DATES: Although USTR will accept any comments received during the course of the dispute settlement proceedings, comments should be submitted on or before September 28, 2012 to assure timely consideration by USTR.

ADDRESSES: Public comments should be submitted electronically at www.regulations.gov, docket number USTR-2012-0023. If you are unable to provide submissions at www.regulations.gov , please contact Sandy McKinzy at (202) 395-9483 to arrange for an alternative method of transmission.

If (as explained below) the comment contains confidential information, then the comment should be submitted by fax only to Sandy McKinzy at (202) 395-3640.

FOR FURTHER INFORMATION CONTACT: Greta Milligan, Assistant General Counsel, Office of the United States Trade Representative, (202) 395-3150.

SUPPLEMENTARY INFORMATION: USTR is providing notice that consultations have been requested pursuant to the WTO Understanding on Rules and Procedures Governing the Settlement of Disputes (“DSU”). If such consultations should fail to resolve the matter and a dispute settlement panel is established pursuant to the DSU, such a panel, which would hold its meetings in Geneva, Switzerland, would be expected to issue a report on its findings and recommendations within nine months after it is established.

Major Issues Raised by the United States

On August 21, 2012, the United States requested consultations concerning certain measures imposed by Argentina on the importation of goods into Argentina. In particular, Argentina subjects the importation of all goods to approval of a non-automatic import license through the Declaración Jurada Anticipada de Importación (“DJAI”) system. In addition, Argentina subjects the importation of certain goods into Argentina to other product-specific non-automatic import licenses, or Licencias No Automáticas de Importación in the form of Certificados de Importación (“CIs”). The legal instruments through which Argentina maintains these measures are set out in the annexes to the request for consultations. The issuance of CIs and approval of DJAIs are systematically delayed or denied by Argentine authorities on non-transparent grounds.

In addition, Argentina often requires imports to undertake certain commitments including to limit imports, to balance imports with exports, to make or increase investments in production facilities in Argentina, to increase the local content of products manufactured in Argentina (and thereby discriminate against imported products), to refrain from transferring revenue or other funds abroad and/or to control the price of imported goods. The Argentine authorities often make the issuance of CIs and the approval of DJAIs conditional upon the importers undertaking to comply with the above-mentioned trade-restrictive commitments.

Through these measures, Argentina appears to have acted inconsistently with its obligations under the General Agreement on Tariffs and Trade (“GATT 1994”), the Agreement on Import Licensing Procedures (“Import Licensing Agreement”), the Agreement on Trade-Related Investment Measures (“TRIMS Agreement”), and the Agreement on Safeguards (“Safeguards Agreement”).

Specifically, the United States asserts in the request for consultations that Argentina's measures appear to be inconsistent with the following provisions of the GATT 1994, the TRIMs Agreement, the Import Licensing Agreement, and the Safeguards Agreement:

1. Articles III:4, X:1, X:2, X:3(a) and XI:1 of the GATT 1994;

2. Article 2 of the TRIMs Agreement;

3. Articles 1.2, 1.3, 1.4, 3.2, 3.3, 3.4, 3.5, 5.1, 5.2, 5.3 and 5.4 of the Import Licensing Agreement; and

4. Article 11 of the Safeguards Agreement

Public Comment: Requirements for Submissions

Interested persons are invited to submit written comments concerning the issues raised in this dispute. Persons may submit public comments electronically to www.regulations.gov, docket number USTR-2012-0023. If you are unable to provide submissions by www.regulations.gov, please contact Sandy McKinzy at (202) 395-9483 to arrange for an alternative method of transmission.

To submit comments via www.regulations.gov, enter docket number USTR-2012-0023 on the home page and click “search.” The site will provide a search-results page listing all documents associated with this docket. Find a reference to this notice by selecting “Notice” under “Document Type” on the left side of the search-results page, and click on the link entitled “Submit a Comment” (For further information on using the www.regulations.gov Web site, please consult the resources provided on the Web site by clicking on “How to Use This Site” on the left side of the home page).

The www.regulations.gov Web site allows users to provide comments by filling in a “Type Comments” field, or by attaching a document using an “Upload File” field. It is expected that most comments will be provided in an attached document. If a document is attached, it is sufficient to type “See attached” in the “Type Comments” field.

A person requesting that information, contained in a comment that he submitted, be treated as confidential business information must certify that such information is business confidential and would not customarily be released to the public by the submitter. Confidential business information must be clearly designated as such and the submission must be marked “BUSINESS CONFIDENTIAL” at the top and bottom of the cover page and each succeeding page. Any comment containing business confidential information must be submitted by fax to

Sandy McKinzy at (202) 395-3640. A non-confidential summary of the confidential information must be submitted at www.regulations.gov. The non-confidential summary will be placed in the docket and will be open to public inspection.

USTR may determine that information or advice contained in a comment submitted, other than business confidential information, is confidential in accordance with section 135(g)(2) of the Trade Act of 1974 (19 U.S.C. 2155(g)(2)). If the submitter believes that information or advice may qualify as such, the submitter—

(1) Must clearly so designate the information or advice;

(2) Must clearly mark the material as “SUBMITTED IN CONFIDENCE” at the top and bottom of the cover page and each succeeding page; and

(3) Must provide a non-confidential summary of the information or advice.

Any comment containing confidential information must be submitted by fax. A non-confidential summary of the confidential information must be submitted at www.regulations.gov. The non-confidential summary will be placed in the docket and will be open to public inspection.

Pursuant to section 127(e) of the Uruguay Round Agreements Act (19 U.S.C. 3537(e)), USTR will maintain a docket on this dispute settlement proceeding, docket number USTR-2012-0023, accessible to the public at www.regulations.gov.

The public file will include non-confidential comments received by USTR from the public regarding the dispute. If a dispute settlement panel is convened, or in the event of an appeal from such a panel, the following documents will be made available to the public at www.ustr.gov: the United States' submissions, any non-confidential submissions received from other participants in the dispute, and any non-confidential summaries of submissions received from other participants in the dispute. In the event that a dispute settlement panel is convened, or in the event of an appeal from such a panel, the report of the panel, and, if applicable, the report of the Appellate Body, will also be available on the Web site of the World Trade Organization at www.wto.org. Comments open to public inspection may be viewed at www.regulations.gov.

Bradford L. Ward,
Assistant United States Trade Representative for Monitoring and Enforcement.

[FR Doc. 2012-21729 Filed 8-31-12; 8:45 am]

BILLING CODE 3290-F2-P